DEPARTMENT OF EDUCATION

Notice of Proposed Collection Requests; Comment Request

AGENCY: Department of Education.

ACTION: Correction Notice.

SUMMARY: On October 3, 2013, the U.S. Department of Education published a 30-day comment period notice in the Federal Register (Page 61348, Column 1) seeking public comment for an information collection entitled, “Foreign Schools Eligibility Criteria Apply to Participate in Title IV HEA Programs.” The OMB control was incorrect. The correct OMB control number is 1845-0105.

The Acting Director, Information Collection Clearance Division, Privacy, Information and Records Management Services, Office of Management, hereby issues a correction notice as required by the Paperwork Reduction Act of 1995.

Kate Mullan,
Acting Director, Information Collection Clearance Division, Privacy, Information and Records Management Services, Office of Management.

[FR Doc. 2013-24593 Filed 10-21-13; 8:45 am]

BILLING CODE 4000-01-P